DEPARTMENT OF JUSTICE

Notice of Lodging of Partial Consent Decree Under the Clean Water Act

Notice is hereby given that on July 31, 2007, a proposed Final Consent Decree in United States v. City of San Diego, Civil Action No. 01-CV-0550B (POR), was lodged with the United States District Court for the Southern District of California. The United States' action is consolidated with San Diego Baykeeper, et al. v. City of San Diego and State of California v. City of San Diego.

In this action the United States seeks penalties and injunctive relief to address sanitary sewer overflows and other violations of the Clean Water Act and the City of San Diego's National Pollutant Discharge Elimination System Permit. The Final Consent Decree includes requirements that have already been initiated but not yet completed under previous settlements.

This Final Consent Decree requires the City to continue to take action to create programs and maintain and upgrade the sewer infrastructure to include, among other things; (1) Comprehensive cleanings of the collection system; (2) inspection of manholes; (3) completion of specified capital projects; (4) repair, rehabilitation or replacement of pipeline; (5) completion of canyon economic and environmental analyses; (6) securing of manhole covers; and (7) completed CCTV inspections. Further, the Final Consent Decree commits the City to implement an additional six year program to improve the City's system and reduce spills.

The Department of Justice will receive for a period of thirty (30) days from the date of this publication comments relating to the Final Consent Decree. Comments should be addressed to the Assistant Attorney General, Environment and Natural Resources Division, and either e-mailed to pubcommentees.enrd@usdoj.gov or mailed to P.O. Box 7611, U.S. Department of Justice, Washington, DC 20044-7611, and should refer to United States v. City of San Diego, D.J. Ref. 90-5-1-1-4364/1.

The Final Consent Decree may be examined at U.S. EPA Region 9, 75 Hawthorne Street, San Francisco, California 94105. During the public comment period, the Final Consent Decree, may also be examined on the following Department of Justice Web site, to http://www.usdoj.gov/enrd/Consent_Decrees.html. A copy of the Final Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.50 (25 cents per page reproduction cost) payable to the U.S. Treasury or, if by e-mail or fax, forward a check in that amount to the Consent Decree Library at the stated address.

Ellen Mahan,
Deputy Chief, Environmental Enforcement Section, Environment and Natural Resources Division.

[FR Doc. 07-3868 Filed 8-8-07; 8:45 am]

BILLING CODE 4410-15-M